DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: HRSA Competing Training Grant Application, Instructions and Relating Regulations (OMB No. 0915-0060)—Revision

The Health Resources and Services Administration uses the information in the application to determine the eligibility of applicants for awards, to calculate the amount of each award and to judge the relative merit of applications. The form is distributed electronically via the Internet. The budget is negotiated for all years of the project period based on this application and program-specific instructions that include greater standardization of content for the project summary and the detailed description of the project.

The Bureau of Health Professions is planning to remove from the Code of Federal Regulations the existing training grant regulations under 42 CFR parts 57 and 58. It is the intent of the Department to operate under new statute for compliance, implementation, and administration of the training grant programs under titles VII and VIII of the PHS Act. The existing regulations are fundamentally and extensively inconsistent with the new law which takes an interdisciplinary approach (and thus inhibits the achievement of the statute's objectives). Program specific guidance and information for preparing applications are now provided in the grant application materials (which makes them now self-contained).

The burden estimate is as follows:

Form | Number of respondents | Response per respondent | Total responses | Hours per response | Total burden hours
Progress Report | 1,250 | 1 | 1,250 | 56.25 | 70,313

Written comments and recommendations concerning the proposed information collection should be sent within 30 days of this notice to: Wendy A. Taylor, Human Resources and Housing Branch, Office of Management and Budget, New Executive Office Building, Room 10235, Washington, D.C. 20503.

Dated: April 7, 2000.
Jane Harrison,
Director, Division of Policy Review and Coordination.

[FR Doc. 00-9401 Filed 4-14-00; 8:45 am]

BILLING CODE 4160-15-P